LIBRARY OF CONGRESS

Copyright Office

[Docket No. 2007-1]

Section 109 Report to Congress

AGENCY: Copyright Office, Library of Congress.

ACTION: Extension of Time to File Reply Comments

SUMMARY: The Copyright Office is extending the time in which reply comments can be filed in response to its Notice of Inquiry requesting information for the preparation of the Section 109 Report to the Congress, as required by the Satellite Home Viewer Extension and Reauthorization Act of 2004.

DATES: Reply Comments are due no later than October 1, 2007.

ADDRESSES: If hand delivered by a private party, an original and five copies of reply comments should be brought to the Library of Congress, U.S. Copyright Office, Public Information Office, LM 401, James Madison Building, 101 Independence Ave, Washington, DC 20559, between 8:30 a.m. and 5 p.m. The envelope should be addressed as follows: Ben Golant, Office of the General Counsel, U.S. Copyright Office.

If delivered by a commercial courier, an original and five copies of a comment or reply comment must be delivered to the Congressional Courier Acceptance Site (“CCAS”) located at 2nd and D Streets, NE, Washington, D.C. between 8:30 a.m. and 4 p.m. The envelope should be addressed as follows: Office of the General Counsel, U.S. Copyright Office, LM 401, James Madison Building, 101 Independence Avenue, SE, Washington, DC. Please note that CCAS will not accept delivery by means of overnight delivery services such as Federal Express, United Parcel Service or DHL.

If sent by mail (including overnight delivery using U.S. Postal Service Express Mail), an original and five copies of a comment or reply comment should be addressed to U.S. Copyright Office, Copyright GC/I&R, P.O. Box 70400, Southwest Station, Washington, DC 20024.

FOR FURTHER INFORMATION CONTACT: Ben Golant, Senior Attorney, and Tanya M. Sandros, Acting General Counsel, Copyright GC/I&R, P.O. Box 70400, Southwest Station, Washington, DC 20024. Telephone: (202) 707-8380. Telefax: (202) 707-8366.

SUPPLEMENTARY INFORMATION: On December 8, 2004, the President signed the Satellite Home Viewer Extension and Reauthorization Act of 2004, a part of the Consolidated Appropriations Act of 2004. See Pub. L. No. 108-447, 118 Stat. 3394 (2004) (hereinafter “SHVERA”). Section 109 of the SHVERA requires the Copyright Office to examine and compare the statutory licensing systems for the cable and satellite television industries under Sections 111, 119, and 122 of the Copyright Act and recommend any necessary legislative changes no later that June 30, 2008.

Earlier this year, we released a Notice of Inquiry (NOI) seeking comment on several issues associated with the matters identified in Section 109 of the SHVERA. See 72 FR 19039 (April 16, 2007). To further supplement the record, the Office announced the scheduling of public hearings for the purpose of taking testimony from interested persons. The hearings are to be held during the week of July 23, 2007. See 72 FR 28998 (May 23, 2007).

On June 11, 2007, the Copyright Office received a Motion for an Extension of Time to File Comments and Reply Comments in this proceeding from the following parties: (1) Program Suppliers; (2) Joint Sports Claimants; (3) Public Television Claimants; (4) NAB; (5) BMI; (6) SESAC; (7) Michael Remington of Drinker Biddle; and (8) John Beiter of Loeb & Loeb. The parties have also requested that the Office move the date of its public hearings as originally announced in the Federal Register on May 23, 2007.

The parties have proposed to move the dates for: (1) the filing of initial comments from July 2, 2007, to September 7, 2007; (2) the filing of reply comments from September 13, 2007, to November 16, 2007; and (3) the hearing from July 23-26, 2007, to the week of September 24, 2007. Under their proposed schedule, witnesses would be identified on August 24, 2007, instead of June 15, 2007, and written questions of testimony would be filed on September 7, 2007, instead of July 2, 2007. They add that moving the dates of the public hearings into the month of August would create “numerous scheduling problems.”

The parties state that the issues raised in this proceeding, “besides being so wide-ranging, are of substantial importance to the industries that will be affected by Congress’s ultimate resolution” of the matters enumerated in Section 109 of the SHVERA and discussed by the Copyright Office in the NOI. For this reason, and this reason alone, the parties urge the Office to provide more time to allow further consideration of these issues within their respective industry groups before initial comments are filed.

We deny all of the extension requests, except for the date by which reply comments are due. The parties have failed to provide a substantive reason why most of the extensions are necessary. They have not adequately stated why the 75 day time frame for filing comments set forth by the Office in the Section 109 NOI was insufficient nor have they adequately explained why they need over seven months to file reply comments. It is important for the parties to recognize that the Office will need time to draft the Report to Congress, which will be a considerable effort given the limited amount of administrative resources available. Nevertheless, to provide all parties with more time to make a meaningful rebuttal to the comments and testimony filed in July 2007, we will extend the dates reply comments are due for an additional two and a half weeks. We will also consider whether to hold additional hearings or permit the filing of surreplies after reply comments are filed in October.

Conclusion

We hereby extend the time by which interested parties may file reply comments from September 13, 2007, to October 1, 2007.

Dated: June 14, 2007
Tanya M. Sandros,
Acting General Counsel

[FR Doc. E7-11816 Filed 6-18-07; 8:45 am]

[BILLING CODE: 1410-30-S]